DEPARTMENT OF JUSTICE

Notice of Lodging of Proposed Amendment To Consent Decree Under the Safe Drinking Water Act

On April 13, 2022, the Department of Justice lodged a proposed amendment to the consent decree with the United States District Court for the Eastern District of New York in United States v. City of New York and New York City Department of Environmental Protection, Civil Action No. CV-19-1519 (E.D.N.Y.).

The United States filed this lawsuit in 2019 under the Safe Drinking Water Act (“Act”). The complaint sought injunctive relief and civil penalties for violations of the Act related to the City's failure to install a cover for its Hillview Reservoir, a finished water storage facility located in Yonkers, New York, in violation of the Long Term 2 Enhanced Surface Water Treatment Rule, 40 CFR 141, subpart W. A consent decree was entered by the Court on May 15, 2019, which requires the City to design and construct the cover for the Reservoir, as well as design and construct two major predecessor projects necessary to achieve compliance with the cover requirement.

One of these major predecessor projects is a set of repairs and improvements to the Hillview Reservoir facilities known as the “Hillview Reservoir Improvements.” Under the existing consent decree, the Hillview Reservoir Improvements includes the construction of a new hydraulic interconnection between the Hillview Reservoir and two of the City's distribution tunnels (the “East Basin Interconnection”) as one of the subprojects. Since the entry of the consent decree in 2019, the City has conducted additional studies and design work which indicate that construction of the East Basin Interconnection as part of the Hillview Reservoir Improvements would not facilitate other repairs that are part of the Hillview Reservoir Improvements as originally anticipated and would unnecessarily complicate operation of the East Basin of the Reservoir prior to its shutdown for cover construction. Accordingly, the proposed amendment to the consent decree provides for the deferral of the East Basin Interconnection subproject to the Hillview Cover Project phase of the consent decree, which will allow the East Basin Interconnection to be constructed at a time when the East Basin of the Reservoir would not be in operation anyway as it would be shut down for cover construction. The revised schedule in the amendment to the consent decree does not eliminate any requirements of the consent decree or change the end date for compliance.

The publication of this notice opens a period for public comment on the amendment to the consent decree. Comments should be addressed to the Assistant Attorney General, Environment and Natural Resources Division, and should refer to United States v. City of New York and New York City Department of Environmental Protection, D.J. Ref. No. 90-5-1-1-10223/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amendment to the consent decree may be examined and downloaded at this Justice Department website: https://www.justice.gov/enrd/consent-decrees. We will provide a paper copy of the proposed amendment upon written request and payment of reproduction costs. Please mail your request and payment to: Consent Decree Library, U.S. DOJ—ENRD, P.O. Box 7611, Washington, DC 20044-7611.

Please enclose a check or money order for $2.75 (25 cents per page reproduction cost) payable to the United States Treasury.

Henry S. Friedman,
Assistant Section Chief, Environmental Enforcement Section, Environment and Natural Resources Division.

[FR Doc. 2022-08444 Filed 4-19-22; 8:45 am]

BILLING CODE 4410-15-P